DEPARTMENT OF COMMERCE

Foreign-Trade Zones Board

[B-83-2013]

Foreign-Trade Zone 138—Columbus, Ohio, Authorization of Production Activity, Rolls Royce Energy Systems, Inc. (Industrial Gas Turbines, Power Generation Turbines, and Generator Sets), Mount Vernon, Ohio

On September 5, 2013, the Columbus Regional Airport Authority, grantee of FTZ 138, submitted a notification of proposed production activity to the Foreign-Trade Zones (FTZ) Board on behalf of Rolls Royce Energy Systems, Inc., in Mount Vernon, Ohio.

The notification was processed in accordance with the regulations of the FTZ Board (15 CFR part 400), including notice in the Federal Register inviting public comment (78 FR 58995, 9-25-2013). The FTZ Board has determined that no further review of the activity is warranted at this time. The production activity described in the notification is authorized, subject to the FTZ Act and the FTZ Board's regulations, including Section 400.14.

Dated: January 21, 2014.
Andrew McGilvray,
Executive Secretary.

[FR Doc. 2014-01579 Filed 1-28-14; 8:45 am]

BILLING CODE 3510-DS-P